DEPARTMENT OF HEALTH AND HUMAN SERVICES

National Institutes of Health

National Center for Research Resources; Notice of Meetings

Pursuant to section 10(d) of the Federal Advisory Committee Act, as amended (5 U.S.C. Appendix 2), notice is hereby given of the following meetings.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Scientific and Technical Review Board on Biomedical and Behavioral Research Facilities, STRB.

Date: February 15-17, 2005.

Open: February 15, 2005, 8 a.m. to 9 a.m.

Agenda: To discuss program planning and other issues.

Place: Double Tree Hotel & Executive Mtg. Ctr., 1750 Rockville Pike, Rockville, MD 20852.

Closed: February 15, 2005, 9 a.m. to Adjourment.

Agenda: To review and evaluate grant applications.

Place: Double Tree Hotel & Executive Mtg. Ctr., 1750 Rockville Pike, Rockville, MD 20852.

Contact Person: Barbara J. Nelson, PhD, Scientific Review Administrator, Office of Review, National Center for Research Resources, NIH, 6701 Democracy Blvd, Room 1080, 1 Democracy Plaza, Bethesda, MD 20892, (301) 435-0806.

Name of Committee: Scientific and Technical Review Board on Biomedical and Behavioral Research Facilities.

Date: March 1-3, 2005.

Open: March 1, 2005, 8 a.m. to 9 a.m.

Agenda: To discuss program and planning and other issues.

Place: Double Tree Hotel & Executive Mtg. Ctr., 1750 Rockville Pike, Rockville, MD 20852.

Closed: March 1, 2005, 9 a.m. to Adjournment.

Agenda: To review and evaluate grant applications.

Place: Double Tree Hotel & Executive Mtg. Ctr., 1750 Rockville Pike, Rockville, MD 20852.

Contact Person: Barbara J. Nelson, PhD, Scientific Review Administrator, Office of Review, National Center for Research Resources, NIH, 6701 Democracy Blvd, Room 1080, 1 Democracy Plaza, Bethesda, MD 20892, (301) 435-0806.

(Catalogue of Federal Domestic Assistance Program Nos. 93.306, Comparative Medicine; 93.333, Clinical Research; 93.371, Biomedical Technology; 93.389, Research Infrastructure, 93.306, 93.333, National Institutes of Health, HHS)
Dated: January 18, 2005.
LaVerne Y. Stringfield,
Director, Office of Federal Advisory Committee Policy.

[FR Doc. 05-1345 Filed 1-25-05; 8:45 am]

BILLING CODE 4140-01-M